DEPARTMENT OF ENERGY

Federal Energy Regulatory Commission

[Project Nos. 2364-042; 2365-054]

Notice of Application for Transfer of Licenses and Soliciting Comments, Motions To Intervene, and Protests: Madison Paper Industries; Eagle Creek Madison Hydro, LLC

On May 8, 2017, Madison Paper Industries (transferor) and Eagle Creek Madison Hydro, LLC (transferee) filed an application for the transfer of licenses of the Abenaki Hydroelectric Project No. 2364 and the Anson Hydroelectric Project No. 2365. The projects are located on the Kennebec River in Somerset County, Maine. The projects do not occupy Federal lands.

The transferor and transferee seek Commission approval to transfer the licenses for the Abenaki Hydroelectric Project and the Anson Hydroelectric Project from the transferor to the transferee.

Applicant's Contacts: For Transferor: Mr. Matthew D. Manahan, Esq., Pierce Atwood LLP, Merrill's Wharf, 254 Commercial Street, Portland, ME 04101, Phone: 207-791-1189, email: mmanahan@PierceAtwood.com.

For Transferee: Mr. Donald H. Clarke and Mr. Joshua E. Adrian, Duncan, Weinberg, Genzer & Pembroke, P.C., 1615 M Street NW., Suite 800, Washington, DC 20036, Phone: 202-467-6370, Emails: dhc@dwgp.com and jea@dwgp.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp.

Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2364-042 or P-2365-054.

Dated: May 25, 2017.
Kimberly D. Bose,
Secretary.

[FR Doc. 2017-11274 Filed 5-31-17; 8:45 am]

BILLING CODE 6717-01-P